DEPARTMENT OF EDUCATION

[Docket No.: ED-2024-SCC-0208]

Agency Information Collection Activities; Submission to the Office of Management and Budget for Review and Approval; Comment Request; Revised Second Chance Pell Experiment and Prison Education Program (PEP) Data Collection

AGENCY: Federal Student Aid (FSA), Department of Education (ED).

ACTION: Notice.

SUMMARY: In accordance with the Paperwork Reduction Act (PRA) of 1995, the Department is proposing a new information collection request (ICR).

DATES: Interested persons are invited to submit comments on or before March 29, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-377-4018.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Revised Second Chance Pell Experiment and Prison Education Program (PEP) Data Collection.

OMB Control Number: 1845-NEW.

Type of Review: A new ICR.

Respondents/Affected Public: Private Sector; State, Local, and Tribal Governments.

Total Estimated Number of Annual Responses: 675.

Total Estimated Number of Annual Burden Hours: 6,750.

Abstract: This is a request for a new information collection to collect programmatic and student information from participating institutions. This collection will cover the required statutory reporting for both the revised Second Chance Pell experiment and Prison Education Programs (PEPs) for confined or incarcerated individuals. Since schools participating in the Second Chance Pell experiment have three years to transition their programs under the experiment to comply with the PEP requirements, the data collected for the experiment and the PEP provisions is almost identical. The only difference is the specific information collected from institutions participating in the Second Chance Pell to provide a status of their progress in converting their current programs under the experiment to be in compliance with the PEP provisions.

Dated: February 26, 2024.
Kun Mullan,
PRA Coordinator, Strategic Collections and Clearance, Governance and Strategy Division, Office of Chief Data Officer, Office of Planning, Evaluation and Policy Development.

[FR Doc. 2024-04249 Filed 2-27-24; 8:45 am]

BILLING CODE 4000-01-P